DEPARTMENT OF ENERGY

Federal Energy Regulatory Commission

[Project No. 10253-032]

Pelzer Hydro Company, LLC; Consolidated Hydro Southeast, LLC; Notice of Application Ready for Environmental Analysis and Soliciting Comments, Recommendations, Terms and Conditions, and Prescriptions

Take notice that the following hydroelectric application has been filed with the Commission and is available for public inspection.

a. Type of Application: New License.

b. Project No.: 10253-032.

c. Date filed: November 30, 2015.

d. Applicant: Pelzer Hydro Company, LLC (Pelzer Hydro), Consolidated Hydro Southeast, LLC (Consolidated Hydro).

e. Name of Project: Lower Pelzer Hydroelectric Project.

f. Location: The existing project is located on the Saluda River near the Towns of Pelzer and Williamston, in Anderson and Greenville Counties, South Carolina. The project does not affect federal land.

g. Filed Pursuant to: Federal Power Act 16 U.S.C. 791(a)-825(r).

h. Applicant Contact: Beth E. Harris, P.E., Regional Operations Manager, Enel Green Power North America, Inc., 11 Anderson Street, Piedmont, SC 29673; Telephone—(864) 846-0042; Email—beth.harris@enel.com, OR Kevin Webb, Hydro Licensing Manager, Enel Green Power North America, Inc., One Tech Drive, Suite 220, Andover, MA 01810; Telephone—(978) 681-1900; Email—kevin.webb@enel.com.

i. FERC Contact: Navreet Deo, (202) 502-6304, or navreet.deo@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-10253-032.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The Lower Pelzer Project consists of: (1) A 696-foot-long by 40-foot-high granite masonry dam, consisting of (i) a 310-foot-long spillway section topped with 4-foot-high wooden flashboards, (ii) a 40-foot-long non-overflow section with two 10-foot-wide by 6-foot-high gates, and (iii) a 236-foot-long non-overflow section; (2) an 80-acre impoundment at a normal pool elevation of 693 feet mean sea level; (3) a 110-foot-long by 14-foot-wide intake, protected by a trashrack structure with 2-inch clear bar spacing, controlling flow to the powerhouse through five, 10.5-foot-wide square gates; (4) a 110-foot-long by 68-foot-wide brick powerhouse integral with the dam, containing 5 horizontal Francis turbine generating units that total 3,300 kilowatts (kW); (5) a 600-foot-long by 110-foot-wide tailrace; (6) a 3-mile-long, 3,300-volt transmission line connecting the powerhouse to the grid via a 7.2/12.47 kilovolt transformer; and (7) appurtenant facilities.

Pelzer Hydro and Consolidated Hydro (co-licensees) operate the project in a run-of-river mode using automatic pond level control, with no storage or flood control capacity. A continuous minimum flow of 140 cubic feet per second (cfs) or inflow, whichever is less, is released into the bypassed reach. The minimum flow is achieved via a sluice gate in the non-overflow section of the dam. The project operates under an estimated average head of 40 feet, including the 4-foot-high spillway flashboards. The impoundment water surface elevation is maintained at 693 feet. River flows between 159 and 1,408 cfs are used for power generation, while flows in excess of 1,408 cfs are passed over the flashboards and spillway. Flow to the generating units is controlled by five manually operated square slide gates. The total installed capacity of the project is 3,300 kW between the five generating units. The project generates approximately 8,784 megawatt-hours annually, which are sold to a local utility.

The co-licensees propose to continue to operate and maintain the Lower Pelzer Project as is required in the existing license, and to develop canoe portage facilities. The co-licensees also propose to remove the previous three-mile-long, 3,300-volt overhead transmission line, which is no longer in use, from the project boundary under a new license. Instead, the project uses a 165-foot-long, 3,300-volt transmission line that interconnects with the grid at an applicant-owned transformer.

m. A copy of the application is available for review at the Commission in the Public Reference Room, or may be viewed on the Commission's Web site at http://www.ferc.gov using the “eLibrary” link. Enter the docket number excluding the last three digits in the docket number field to access the document. For assistance, contact FERC Online Support. A copy is also available for inspection and reproduction at the address in item h above.

All filings must: (1) Bear in all capital letters the title COMMENTS, REPLY COMMENTS, RECOMMENDATIONS, TERMS AND CONDITIONS, or PRESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Kimberly D. Bose,
Secretary.

[FR Doc. 2017-25319 Filed 11-21-17; 8:45 am]

BILLING CODE 6717-01-P